DEPARTMENT OF COMMERCE

National Telecommunications and Information Administration

Agency Information Collection Activities; Submission to the Office of Management and Budget (OMB) for Review and Approval; Comment Request; 911 Grant Program Performance Closeout Report

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 2, 2021 during the 60-day comment period. This notice allows for an additional 30 days for public comments.

Agency: National Telecommunications and Information Administration, Commerce.

Title: 911 Grant Program Closeout Performance Report Request.

OMB Control Number: 06XX-XXXX.

Form Number(s): None.

Type of Request: New information collection.

Number of Respondents: 36.

Average Hours per Response: 60 hours.

Burden Hours: 2,160 hours.

Needs and Uses: In 2012, the Next Generation 911 (NG911) Advancement Act of 2012 (Middle Class Tax Relief and Job Creation Act of 2012, Pub. L. 112-96, Title VI, Subtitle E (codified at 47 U.S.C. 942)) enacted changes to this program. It reauthorized the 911 Implementation Coordination Office (ICO), a joint effort between the National Highway Traffic Safety Administration (NHTSA) and the National Telecommunications and Information Administration (NTIA). It delineated the responsibilities of the ICO to include a joint program to establish and facilitate coordination and communication between Federal, State, and local emergency communications systems, emergency personnel, public safety organizations, telecommunications carriers, and telecommunications equipment manufacturers and vendors involved in the implementation of 911 services.

The NG911 Advancement Act provided funding for grants to be used for the implementation and operation of 911 services, E911 services, migration to an IP-enabled emergency network, and adoption and operation of NG911 services and applications; the implementation of IP-enabled emergency services and applications enabled by NG911 services, including the establishment of IP backbone networks and the application layer software infrastructure needed to interconnect the multitude of emergency response organizations; and training public safety personnel, including call-takers, first responders, and other individuals and organizations who are part of the emergency response chain in 911 services. In August 2019, NTIA and NHTSA made $109,250,000 in grant awards to 36 agencies.

The information collected for the closeout of this grant program will include various reporting requirements. The closeout performance report is a new collection instrument. All grantees will submit the closeout performance report, tangible property report and final financial report in accordance with 2 CFR part 200, the Uniform Administrative Requirements, Cost Principles, and Audit Requirements for Federal Awards (OMB Uniform Guidance). It is important for NTIA and NHTSA to have this information so that they can effectively administer the grant program and account for the expenditure of funds.

Affected Public: Under this proposed effort, all grantees are required to submit the required report electronically via email. Reporting entities are the 36 grantees, making the total maximum number of respondents 36.

Frequency: One time. The reporting entities will be required to submit the Closeout Performance Report, Tangible Property Report and a final financial report.

Respondents' Obligation: Mandatory.

Legal Authority: 47 U.S.C. 942.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2021-12224 Filed 6-9-21; 8:45 am]

BILLING CODE 3510-WL-P